DEPARTMENT OF DEFENSE

Defense Logistics Agency

Privacy Act of 1974; Computer Matching Program

AGENCY: Department of Defense.

ACTION: Notice of a Computer Matching Program.

SUMMARY: Subsection (e)(12) of the Privacy Act of 1974, as amended (5 U.S.C. 552a), requires agencies to publish advanced notices of any proposed or revised computer matching program by the matching agency for public comment. The Department of Defense (DoD), as the matching agency under the Privacy Act, is hereby giving notice to the record subjects of a computer matching program between Department of Education (ED) and DoD that their records are being matched by computer. This computer matching agreement supersedes all existing data exchange agreements or memoranda of understanding between the ED and the DoD applicable to the exchange of personal data for debt collection purposes pertaining to debtors who are delinquent in their debts to the United States Government under certain programs administered by the Department of Education.

DATES: This proposed action will become effective March 18, 2002 and matching may commence unless changes to the matching program are required due to public comments or by Congressional or by Office of Management and Budget objections. Any public comment must be received before the effective date.

ADDRESSES: Any interested party may submit written comments to the Director, Defense Privacy Office, 1941 Jefferson Davis Highway, Suite 920, Arlington, VA 22202-4502.

FOR FURTHER INFORMATION CONTACT: Mr. Vahan Moushegian, Jr. at (703) 607-2943.

SUPPLEMENTARY INFORMATION: Pursuant to subsection (o) of the Privacy Act of 1974, as amended, (5 U.S.C. 552a), the DMDC and ED have concluded an agreement to conduct a computer matching program between agencies. The purpose of the computer matching program is to attempt to identify and locate debtors who are current or former Federal personnel receiving any Federal salary or benefit payments and are indebted or delinquent in their payment of debts to the United States Government under certain programs administered by ED.

The parties to this agreement have determined that a computer matching program is the most efficient, expeditious, and effective means of obtaining and processing the information needed by the ED to identify and initiate collection efforts against individual debtors via the salary and/or administrative offset method. The principal alternative to using a computer matching program for identifying such individuals would be to conduct a manual comparison of all Federal personnel records with lists of debtors delinquent in payments held by ED. Conducting a manual match, however, would clearly impose a considerable administrative burden, constitute a more intrusive invasion of the individual's personal privacy, and would result in additional delay in the eventual recovery of the outstanding debts. Using the computer matching program, information on successful matches (hits) can be provided to ED within 30 days of receipt of an electronic file of delinquent debtors records from ED. The Debt Collection Improvement Act of 1996 mandates that Federal agencies conduct annual computer matches to identify Federal employees who are indebted to a creditor agency for purposes of salary offset.

A copy of the computer matching agreement between ED and DoD is available upon request. Requests should be submitted to the address caption above or to the Department of Education, Students Channel/Collections, 830 First Street, NE., Room 41B3, Mail Stop 5320, Washington, DC 20202-5320.

Set forth below is the notice of the establishment of a computer matching program required by paragraph 6.c. of the Office of Management and Budget Guidelines on computer matching published on June 19, 1989, at 54 FR 25818.

The matching agreement, as required by 5 U.S.C. 552a(r) of the Privacy Act, and an advance copy of this notice was submitted on February 4, 2002, to the House Committee on Government Reform, the Senate Committee on Governmental Affairs, and the Administrator of the Office of Information and Regulatory Affairs, Office of Management and Budget pursuant to paragraph 4d of Appendix I to OMB Circular No. A-130, “Federal Agency Responsibilities for Maintaining Records about Individuals”, dated February 8, 1996 (February 20, 1996, 61 FR 6427).

Dated: February 8, 2002.
L.M. Bynum,
Alternate OSD Federal Register Liaison Officer, Department of Defense.

Notice of a Computer Matching Program Between the Defense Manpower Data Center, the Department of Defense, and the Department of Education for Debt Collection

A. Participating Agencies: Participants in this computer matching program are the Defense Manpower Data Center (DMDC), the Department of Defense (DOD), and the Department of Education (ED). The ED is the source agency, i.e., the activity disclosing the records for the purpose of the match. The DMDC is the specific recipient activity or matching agency, i.e., the agency that actually performs the computer matching.

B. Purpose of the Match: The purpose of this agreement identify and locate any matched Federal personnel, employed, serving, or retired, who owe delinquent debts to the Federal Government under certain programs administered by ED. ED will use this information to initiate independent collection of those debts under the provisions of the Debt Collection Act of 1982, as amended, when voluntary payment is not forthcoming. These collection efforts will include requests by ED of the military service/employing agency in the case of military personnel (either active, reserve, or retired) and current non-postal civilian employees, and to OPM in the case of retired non-postal civilian employees, to apply administrative and/or salary offset procedures until such time as the obligation is paid in full.

C. Authority for Conducting the Match: The legal authority for conducting the matching program is contained in the Debt Collection Act of 1982 (Public Law 97-365), as amended by the Debt Collection Improvement Act of 1996 (Public Law 104-134, section 31001); 31 U.S.C. chapter 37, subchapter I (General) and subchapter II (Claims of the United States Government); 31 U.S.C. 3711, Collection and Compromise; 31 U.S.C. 3716, Administrative Offset; 5 U.S.C. 5514, Installment Deduction for Indebtedness (Salary Offset); 10 U.S.C. 135, Under Secretary of Defense (Comptroller); Section 101(l) of Executive Order 12731; 31 CFR chapter IX, Federal Claims Collection Standards; 5 CFR 550.1101—550.1108, Collection by Offset from Indebted Government Employees (OPM); 34 CFR part 31, Salary Offset Standards for Federal Employees Indebted to the United States under Programs Administered by the Secretary of Education.

D. Records to be Matched: The systems of records maintained by the respective agencies under the Privacy Act of 1974, as amended, 5 U.S.C. 552a, from which records will be disclosed for the purpose of this computer match are as follows:

1. ED will use personal data from the record system identified as 18-11-07, entitled “Student Financial Assistance Collection Files,” published in the Federal Register, at 64 FR 30166, June 4, 1999, as amended by 64 FR 72407, December 27, 1999.

2. DoD will use personal data from the record system identified as S322.11 DMDC, entitled “Federal Creditor Agency Debt Collection Data Base,” last published in the Federal Register at 64 FR 42101, August 3, 1999.

E. Description of Computer Matching Program: ED, as the source agency, will provide DMDC with an electronic file which contains the names of delinquent debtors in programs ED administers. Upon receipt of the electronic file of debtor accounts, DMDC will perform a computer match using all nine digit digits of the SSN of the ED file against a DMDC computer database. The DMDC database, established under an interagency agreement between DOD, OPM, OMB, and the Department of the Treasury, consists of personnel records of non-postal Federal civilian employees and military members, both active and retired.

The “hits” or matches will be furnished to ED. ED is responsible for verifying and determining that the data on the DMDC electronic reply file are consistent with ED’s source file and for resolving any discrepancies or inconsistencies on an individual basis. ED will also be responsible for making final determinations as to positive identification, amount of indebtedness, and recovery efforts as a result of the match.

The electronic file provided by ED will contain data elements of the debtor's name, SSN, internal account numbers and the total amount owed for each debtor on approximately 2,000,000 delinquent debtors.

The DMDC computer database file contains approximately 4.53 million records of active duty and retired military members, including the Reserve and Guard, and approximately 3.45 million records of active and retired non-postal Federal civilian employees.

DMDC will match the SSN on the ED file by computer against the DMDC database. Matching records, “hits” based on SSNs, will produce data elements of the individual's name, SSN, military service or employing agency, and current work or home address.

F. Inclusive Dates of the matching Program: The effective date of the matching agreement and date when matching may actually begin shall be at the expiration of the 40-day review period for OMB and Congress, or 30 days after publication of the matching notice in the Federal Register, whichever date is later. The parties to this agreement may assume OMB and Congressional concurrence if no comments are received within 40 days of the date of the transmittal letter. The 40-day OMB and Congressional review period and the mandatory 30-day public comment period for the Federal Register publication of the notice will run concurrently. By agreement between ED and DoD, the matching program will be in effect for 18 months with an option to renew for 12 additional months unless one of the parties to the agreement advises the other by written request to terminate or modify the agreement.

G. Address for Receipt of Public Comments or Inquiries: Director, Defense Privacy Office, 1941 Jefferson Davis Highway, Suite 920, Arlington, VA 22202-4502. Telephone (703) 607-2943.

[FR Doc. 02-3703 Filed 2-14-02; 8:45 am]

BILLING CODE 5001-08-P